DEPARTMENT OF LABOR

Employment and Training Administration

[TA-W-40,972]

Kurwood, Inc., Los Angeles, CA; Notice of Termination of Investigation

Pursuant to section 221 of the Trade Act of 1974, an investigation was initiated on March 11, 2002, in response to a worker petition that was filed on behalf of workers at Kurwood, Inc., Los Angeles, California.

The petition lacks the requisite worker signatures. The worker who filed the petition is neither a company official nor a union representative. Furthermore, the worker does not recall filing the petition and does not desire that the investigation move forward.

Consequently further investigation in this case would serve no purpose, and the investigation has been terminated.

Signed in Washington, DC, this 29th day of April, 2002.
Linda G. Poole,
Certifying Officer, Division of Trade Adjustment Assistance.

[FR Doc. 02-12396 Filed 5-16-02; 8:45 am]

BILLING CODE 4510-30-M